DEPARTMENT OF TRANSPORTATION

Research and Special Programs Administration

49 CFR Part 171

Hazardous Materials Regulations: General Information, Regulations, and Definitions

CFR Correction

In Title 49 of the Code of Federal Regulations, Parts 100 to 185, revised as of October 1, 2001, on page 83, in § 171.8, the definitions of Psi, Psia, and Psig are revised to read as follows:

§ 171.8 Definitions and abbreviations.

* * * * *

Psi means pounds per square inch.

Psia means pounds per square inch absolute.

Psig means pounds per square inch gauge.

* * * * *

[FR Doc. 02-55505 Filed 3-20-02; 8:45 am]

BILLING CODE 1505-01-D